DEPARTMENT OF HOMELAND SECURITY

Federal Emergency Management Agency

[Docket ID: FEMA-2022-0055; OMB No. 1660-0047]

Agency Information Collection Activities: Proposed Collection; Comment Request; Request for Federal Assistance Form—How to Process Mission Assignments in Federal Disaster Operations

AGENCY: Federal Emergency Management Agency, Department of Homeland Security.

ACTION: 60-Day notice of revision and request for comments.

SUMMARY: The Federal Emergency Management Agency (FEMA), as part of its continuing effort to reduce paperwork and respondent burden, invites the general public to take this opportunity to comment on an extension, with change, of a currently approved information collection. In accordance with the Paperwork Reduction Act of 1995, this notice seeks comments concerning the collection of information necessary to allow FEMA to support the needs of State, Tribes, and Territories during disaster situations through the use of other Federal agency resources.

DATES: Comments must be submitted on or before February 13, 2023.

ADDRESSES: To avoid duplicate submissions to the docket, please submit comments at www.regulations.gov under Docket ID FEMA-2022-0055. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: John Walls, via email: john.wallsjr@fema.dhs.gov or by phone (202) 674-4936. You may contact the Records Management Division for copies of the proposed collection of information at email address: FEMA-Information-Collections-Management@fema.dhs.gov.

SUPPLEMENTARY INFORMATION: According to the Robert T. Stafford Disaster Relief and Emergency Assistance Act (Stafford Act), 42 U.S.C. 5121 et seq., FEMA is authorized to provide assistance before, during, and after a disaster has impacted a State, Tribe, or Territory. For a major disaster, the Stafford Act authorizes FEMA to direct any agency to utilize its existing authorities and resources in support of State, Tribe, and Territory assistance response and recovery efforts. See 42 U.S.C. 5170(a)(1). For an emergency, the Stafford Act authorizes FEMA to direct any agency to utilize its existing authorities and resources in support of State and local emergency assistance efforts. See 42 U.S.C. 5192(a)(1). FEMA may task other Federal agencies to assist during disasters and to support emergency efforts by State and local governments by issuing a mission assignment to the appropriate agency. See 44 CFR 206.5, 206.208. FEMA collects the information necessary to determine what resources are needed and if a mission assignment is appropriate. The information collected explains which States, Tribes, or Territories require assistance, what needs to be accomplished, details any resource shortfalls, and explains what assistance is required to meet these needs.

Collection of Information

Title: Request for Federal Assistance Form—How to Process Mission Assignments in Federal Disaster Operations.

Type of Information Collection: Revision of a currently approved information collection.

OMB Number: 1660-0047.

FEMA Form: FEMA Form FF-104-FY-21-120 (formerly 010-0-7), Resource Request Form.

Abstract: If a State, Tribe, or Territory determines that its capacity to respond to a disaster exceeds its available resources, it may submit to FEMA a request that the work be accomplished by a Federal agency. This request documents how the response requirements exceed the capacity for the State to respond to the situation on its own and what type of assistance is required. FEMA reviews this information and may issue a mission assignment to the appropriate Federal agency to assist the State in its response to the situation.

Affected Public: State, Local or Tribal Government.

Number of Respondents: 10.

Number of Responses: 6,400.

Estimated Total Annual Burden Hours: 2,133 hours.

Estimated Total Annual Respondent Costs: $180,430.

Estimated Respondents' Operation and Maintenance Costs: $0.

Estimated Respondents' Capital and Start-Up Costs: $0.

Estimated Total Annual Cost to the Federal Government: $42,884.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-27001 Filed 12-12-22; 8:45 am]

BILLING CODE 9111-24-P